SOCIAL SECURITY ADMINISTRATION

Privacy Act of 1974 as Amended; Computer Matching Program (SSA/Department of Health and Human Services, Administration for Children and Families, Office of Child Support Enforcement (HHS/ACF/OCSE)) Match 1095

AGENCY: Social Security Administration (SSA).

ACTION: Notice of a new computer matching program.

SUMMARY: In accordance with the provisions of the Privacy Act, as amended, this notice announces a computer matching program that SSA plans to conduct with HHS/ACF/OCSE.

DATES: SSA will file a report of the subject matching program with the Committee on Homeland Security and Governmental Affairs of the Senate; the Committee on Government Reform of the House of Representatives, and the Office of Information and Regulatory Affairs, Office of Management and Budget (OMB). The matching program will be effective as indicated below.

ADDRESSES: Interested parties may comment on this notice by either telefax to (410) 965-8582 or writing to the Associate Commissioner, Office of Income Security Programs, 760 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Pub. L. 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency, or agencies, participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: December 19, 2005.
Martin H. Gerry,
Deputy Commissioner for Disability and Income Security Programs.

Notice of Computer Matching Program, Social Security Administration (SSA) with the Health and Human Services (HHS)/Administration for Children and Families (ACF)/ Office of Child Support Enforcement (OCSE).

A. Participating Agencies

SSA and OCSE.

B. Purpose of the Matching Program

The purpose of this matching program is to assist SSA in:

(1) Establishing or verifying continuing entitlement under the Social Security Disability Insurance program (DI) and

(2) Verifying continued payments to employment networks for work activity by DI beneficiaries or Supplemental Security Income (SSI) recipients, as authorized by the Social Security Act.

C. Authority for Conducting the Matching Program

The legal authority for SSA to conduct this matching activity is contained in sections 453(j)(4) and 1631(e)(1)(B), 1148(d)(1) and 1631(f) of the Social Security Act (42 U.S.C. 653(j)(4)) and 1383(e)(1)(B) and 1383(f) of the Act.

D. Categories of Records and Individuals Covered by the Matching Program

SSA will compare the National Directory of New Hires (NDNH) records with data extracted from SSA's Master Beneficiary Record (MBR) (SSA/ORSIS, 60-0090), and Disability Control File (DCF) (SSA/OD, 60-0050). The NDNH records that SSA will compare are in the NDNH database, which is part of the Federal Parent Locator and Federal Tax Refund/Administrative Offset System (HHS/OCSE, 09-09-0074). Both SSA and OCSE have published notice of the relevant systems of records in the Federal Register. The MBR, SSA/ORSIS, 60-0090 was published on February 21, 2001 in Volume 66, Number 35 of the Federal Register. The DCF, SSA/OD 60-0050 was published April 4, 2001 in Volume 66, Number 69 of the Federal Register. The Location and Collection System (LCS), HHS/OCSE 09-90-0074, was published at 70 FR 21200, April 25, 2005.

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E5-7830 Filed 12-23-05; 8:45 am]

BILLING CODE 4191-02-P